DEPARTMENT OF ENERGY

Federal Energy Regulatory Commission

[Docket Nos. ER09-556-000; Docket Nos. ER09-556-000; and ER06-615-039; ER08-367-003]

California Independent System Operator Corporation; Notice Shortening Answer Period

March 11, 2009.

On March 6, 2009, the California Independent System Operator Corporation (CAISO) filed a Motion to Modify Effective Date of Certain Proposed Tariff Revisions and for Expedited Answer Period (March 6 Motion). In the filing, CAISO requests that the Commission establish an expedited time period to file answers to the motion in order to facilitate Commission consideration of the motion. By this notice, the date for filing answers to CAISO's March 6 Motion is shortened to and including March 13, 2009.

Kimberly D. Bose,
Secretary.

[FR Doc. E9-5777 Filed 3-17-09; 8:45 am]

BILLING CODE 6717-01-P